DEPARTMENT OF AGRICULTURE

Submission for OMB Review; Comment Request

September 16, 2021.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by October 22, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: 2022 Census of Agriculture—Substantive Change.

OMB Control Number: 0535-0226.

Summary of Collection: General authority for these data collection activities is granted under U.S. Code Title 7, Section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

This is a request to make a substantive change to the currently approved Census of Agriculture clearance. In this substantive change, NASS provides details to the separate data collection of agricultural decision makers' sexual orientation and gender identification (SOGI) and disability status data that was mentioned in the original approval. This experimental data collection will be called The Farm Producer Study and will take place in late 2021. The Farm Producer Study will provide experimental data that will help determine if these questions should be included in future data collections, such as the 2027 Census of Agriculture.

Need and Use of the Information: Census of Agriculture data, including data that may be used to better understand the demographics of agricultural producers, are an integral part of the primary function of the National Agricultural Statistics Service (NASS), which is the collection, processing, and dissemination of current State, regional, and national agricultural statistics.

Description of Respondents: Farms: Individuals or households.

Number of Respondents: 75,000.

Frequency of Responses: Once.

Total Burden Hours: 15,965.

Levi S. Harrell,
Departmental Information Collection Clearance Officer.

[FR Doc. 2021-20443 Filed 9-21-21; 8:45 am]

BILLING CODE 3410-20-P